DEPARTMENT OF HOMELAND SECURITY

Federal Emergency Management Agency

[Docket ID: FEMA-2017-0011; 1660-0011]

Agency Information Collection Activities: Proposed Collection; Comment Request; Debt Collection Financial Statement

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the collection of information related to disaster program accounts and debts owed to FEMA by individuals.

DATES: Comments must be submitted on or before June 16, 2017.

ADDRESSES: To avoid duplicate submissions to the docket, please use only one of the following means to submit comments:

(1) Online. Submit comments at www.regulations.gov under Docket ID FEMA-2017-0011. Follow the instructions for submitting comments.

(2) Mail. Submit written comments to Docket Manager, Office of Chief Counsel, DHS/FEMA, 500 C Street SW., 8NE., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jackie Cohen, Chief, Debt Management Unit, FEMA Finance Center, Office of the Chief Financial Officer, FEMA at (540) 504-1650. You may contact the Records Management Division for copies of the proposed collection of information at email address: FEMA-Information-Collections-Management@fema.dhs.gov.

SUPPLEMENTARY INFORMATION: Under the Debt Collection Improvement Act as amended (Pub. L. 104-134), the Federal Claims Collection Standards (31 CFR parts 900-904) and DHS regulations (6 CFR 11); the Administrator of FEMA is: (1) Required to attempt collection of all debts owed to the United States arising out of activities of FEMA; and (2) for debts not exceeding $100,000, authorized to compromise such debts or terminate collection action completely where it appears that that the person liable for such debt does not have the present or prospective financial ability to pay a significant sum, or that the cost of collecting such debt is likely to exceed the amount of recovery (31 U.S.C. 3711(a)(2)). FEMA is revising this collection by requesting additional information on FEMA Form 127-0-1 including the debtor's phone number and detailed information concerning the debtor's dependents, including age, relationship, and contribution to the household income, if any. Additionally, FEMA has incorporated Household Expense Listing form questions such as other monthly gross income, monthly housing & utility expenses, monthly transportation expenses, etc.

Collection of Information

Title: Debt Collection Financial Statement.

Type of Information Collection: Revision of a currently approved information collection.

OMB Number: 1660-0011.

FEMA Forms: FEMA Form 127-0-1, Debt Collection Financial Statement.

Abstract: FEMA may request debtors to provide personal financial information on FEMA Form 127-0-1 concerning their current financial position. FEMA uses this information to determine whether to compromise, suspend, or completely terminate collection efforts on respondents' debts. This information is also used to locate debtor's assets if the debts are sent for judicial enforcement.

Affected Public: Individuals or households.

Number of Respondents: 300.

Number of Responses: 300.

Estimated Total Annual Burden Hours: 225 hours.

Estimated Cost: The estimated annual cost to respondents for the hour burden is $7,632.00. There are no annual costs to respondents' operations and maintenance costs for technical services. There are no annual start-up or capital costs. The cost to the Federal Government is $62,644.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 5, 2017.
Tammi Hines,
Records Management Program Chief (Acting), Mission Support, Federal Emergency Management Agency, Department of Homeland Security.

[FR Doc. 2017-07611 Filed 4-14-17; 8:45 am]

BILLING CODE 9111-19-P